ENVIRONMENTAL PROTECTION AGENCY

[ER-FRL-9002-4]

Environmental Impacts Statements; Notice of Availability

Responsible Agency: Office of Federal Activities, General Information (202) 564-7146 or http://www.epa.gov/compliance/nepa/.

Weekly receipt of Environmental Impact Statements filed 03/26/2012 through 03/30/2012 pursuant to 40 CFR 1506.9.

Notice

Section 309(a) of the Clean Air Act requires that EPA make public its comments on EISs issued by other Federal agencies. EPA's comment letters on EISs are available at: http://www.epa.gov/compliance/nepa/eisdata.html.

EIS No. 20120093, Draft EIS, USFS, OR, Rim-Paunina Project and Forest Plan Amendment, To Decrease the Density of Trees, Implementation, Crescent Ranger District, Deschutes National Forest, Klamath County, OR, Comment Period Ends: 05/21/2012, Contact: Tim Foley 541-433-3200.

EIS No. 20120094, Draft EIS, BOEM, 00, Programmatic—Geological and Geophysical Activities in Federal Waters of the Mid- and South Atlantic Outer Continental Shelf and Adjacent State Waters, Comment Period Ends: 06/04/2012, Contact: Jill Lewandowski 703-787-1703.

EIS No. 20120095, Final EIS, USFS, ID, Mill Creek-Council Mountain Landscape Restoration Project, Proposed Landscape Restoration Treatment Activities on 51,975 Acres, Council Ranger District, Payette National Forest, Adams County, ID, Review Period Ends: 05/07/2012, Contact: Stephen Penny 208-253-0164.

EIS No. 20120096, Final EIS, BLM, UT, Greater Natural Buttes Area Gas Development Project, Development of Additional Well Pads and Associated Infrastructure, Application Approvals, Uintah County, UT, Review Period Ends: 05/07/2012, Contact: Stephanie Howard 435-781-4469.

EIS No. 20120097, Final EIS, FHWA, CA, Phase II—CA-11 and Otay Mesa East Port of Entry Project, Construction of a new Toll Highway (CA11) and Port of Entry in the East Otay Mesa Area and Commercial Vehicle Enforcement Facility, County of San Diego, CA, Review Period Ends: 05/07/2012, Contact: Manuel E. Sanchez 619-699-7336.

Dated: April 3, 2012.
Cliff Rader,
Director, NEPA Compliance Division, Office of Federal Activities.

[FR Doc. 2012-8351 Filed 4-5-12; 8:45 am]

BILLING CODE 6560-50-P